DEPARTMENT OF COMMERCE

National Oceanic and Atmospheric Administration

RIN 0648-XZ55

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Wednesday, October 27, 2010, at 9 a.m.

ADDRESSES: Meeting address: The meeting will be held at the Sheraton Harborside Hotel, 250 Market Street, Portsmouth, NH 03801: Telephone: (603) 431-2300; Fax: (603) 433-5649.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

(1) The Committee will review measures in Framework Adjustment 45 to the Northeast Multispecies Fishery Management Plan. The Framework includes a wide range of management measures including updates to fishery specifications, fishery program administration adjustments, and measures for the commercial and recreational fisheries. Preferred alternatives may be selected in order to provide recommendations to the Council for its final vote on the Framework in November, 2010.

(2) The Committee may discuss pursuing an amendment to the FMP to implement state-sponsored permit banks.

(3) Other business may also be discussed.

(4) The Committee will meet in closed session to review advisory panel applications.

The Committee's recommendations will be delivered to the full Council at its meeting in Brewster, MA on November 16-18, 2010.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: October 6, 2010.
Tracey L. Thompson,
Acting Director, Office of Sustainable Fisheries, National Marine Fisheries Service.

[FR Doc. 2010-25523 Filed 10-8-10; 8:45 am]

BILLING CODE 3510-22-P